FEDERAL RETIREMENT THRIFT INVESTMENT BOARD

Sunshine Act; Notice of Meeting

TIME AND DATE: 10:00 a.m. (Eastern Time) December 17, 2012.

PLACE: 10th Floor Board Meeting Room, 77 K Street NE., Washington, DC 20002.

STATUS: All parts will be open to the public.

MATTERS TO BE CONSIDERED:

1. Approval of the Minutes of the November 27, 2012 Board Member Meeting

2. Thrift Savings Plan Activity Report by the Acting Executive Director

a. Monthly Participant Activity Report

b. Monthly Investment Performance Report

c. Legislative Report

3. Internal Audit Memo

CONTACT PERSON FOR MORE INFORMATION: Kimberly Weaver, Director, Office of External Affairs, (202) 942-1640.

Dated: December 10, 2012.
Megan Grumbine,
Acting Secretary, Federal Retirement Thrift Investment Board.

[FR Doc. 2012-30092 Filed 12-10-12; 4:15 pm]

BILLING CODE 6760-01-P